SECURITIES AND EXCHANGE COMMISSION

Sunshine Act Meetings

TIME AND DATE: Notice is hereby given, pursuant to the provisions of the Government in the Sunshine Act, Public Law 94-409, that the Securities and Exchange Commission will hold an Open Meeting on Wednesday, October 12, 2022 at 10:00 a.m.

PLACE: The meeting will be webcast on the Commission's website at www.sec.gov.

STATUS: This meeting will begin at 10:00 a.m. (ET) and will be open to the public via webcast on the Commission's website at www.sec.gov.

MATTERS TO BE CONSIDERED: The Commission will consider whether to adopt certain rule amendments regarding the electronic recordkeeping and prompt production of records requirements for broker-dealers, security-based swap dealers, and major-security based swap participants under the Securities Exchange Act of 1934.

CONTACT PERSON FOR MORE INFORMATION: For further information and to ascertain what, if any, matters have been added, deleted or postponed, please contact Vanessa A. Countryman from the Office of the Secretary at (202) 551-5400.

(Authority: 5 U.S.C. 552b.)

Dated: October 5, 2022.
Vanessa A. Countryman,
Secretary.

[FR Doc. 2022-22073 Filed 10-5-22; 4:15 pm]

BILLING CODE 8011-01-P